DEPARTMENT OF ENERGY

Federal Energy Regulatory Commission

Notice of Application for Amendment of License and Soliciting Comments, Motions To Intervene, and Protests

November 27, 2002.

Take notice that the following application has been filed with the Commission and is available for public inspection:

a. Application Type: Amendment of License to Change Project Boundary.

b. Project No: 1835-222.

c. Date Filed: September 3, 2002.

d. Applicant: Nebraska Public Power District (NPPD).

e. Name of Project: North Platte/Keystone Diversion Dam Project.

f. Location: The project is located on the North Platte and South Platte Rivers, in Keith and Lincoln Counties, Nebraska. The area proposed to be deleted from the project boundary lies entirely within Lincoln County.

g. Filed Pursuant to: Federal Power Act, 16 U.S.C. 791 (a) 825(r) and 799 and 801.

h. Applicant Contact: John Shadle, Nebraska Public Power District, P.O. Box 499, Columbus, NE 68601-0499, (402) 564-8561.

i. FERC Contact: Any questions on this notice should be addressed to Mr. Eric Gross at (202) 502-6213, or e-mail address: eric.gross@ferc.gov.

j. Deadline for filing comments and or motions: December 27, 2002.

All documents (original and eight copies) should be filed with: Magalie R. Salas, Secretary, Federal Energy Regulatory Commission, 888 First Street, NE., Washington DC 20426. Please include the project number (P-1835-222) on any comments or motions filed.

k. Description of Request: NPPD is proposing to remove approximately 33.67 acres of land from the project boundary. The land will be transferred to the Nebraska Department of Roads (NDOR) to accommodate a realignment of Highway 25 right-of-way near NPPD's Sutherland Reservoir. The land is not needed for project purposes.

l. Locations of the Application: A copy of the application is available for inspection and reproduction at the Commission's Public Reference Room, located at 888 First Street, NE., Room 2A, Washington, DC 20426, or by calling (202) 502-8371. This filing may also be viewed on the Commission's website at http://www.ferc.gov using the “FERRIS” link. Enter the docket number excluding the last three digits in the docket number field to access the document. For assistance, call 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Linwood A. Watson, Jr.,
Deputy Secretary.

[FR Doc. 02-30712 Filed 12-3-02; 8:45 am]

BILLING CODE 6717-01-P